NATIONAL FOUNDATION ON THE ARTS AND THE HUMANITIES

National Endowment for the Arts

Arts Advisory Panel Meetings

AGENCY: National Endowment for the Arts.

ACTION: Notice of meetings.

SUMMARY: Pursuant to the Federal Advisory Committee Act, as amended, notice is hereby given that 37 meetings of the Arts Advisory Panel to the National Council on the Arts will be held by teleconference or videoconference.

DATES: See the SUPPLEMENTARY INFORMATION section for individual meeting times and dates. All meetings are Eastern time and ending times are approximate:

ADDRESSES: National Endowment for the Arts, Constitution Center, 400 7th St., SW, Washington, DC, 20506.

FOR FURTHER INFORMATION CONTACT: Further information with reference to these meetings can be obtained from Daniel Beattie, Office of Guidelines & Panel Operations, National Endowment for the Arts, Washington, DC, 20506; beattied@arts.gov, or call 202/682-5688.

SUPPLEMENTARY INFORMATION: The closed portions of meetings are for the purpose of Panel review, discussion, evaluation, and recommendations on financial assistance under the National Foundation on the Arts and the Humanities Act of 1965, as amended, including information given in confidence to the agency. In accordance with the determination of the Chair of March 11, 2022, these sessions will be closed to the public pursuant to subsection (c)(6) of section 552b of title 5, United States Code.

The Upcoming Meetings Are

Dance (review of applications): This meeting will be closed.

Date and time: November 1, 2022; 12:00 p.m. to 2:00 p.m.

Dance (review of applications): This meeting will be closed.

Date and time: November 1, 2022; 3:00 p.m. to 5:00 p.m.

Dance (review of applications): This meeting will be closed.

Date and time: November 3, 2022; 12:00 p.m. to 2:00 p.m.

Dance (review of applications): This meeting will be closed.

Date and time: November 3, 2022; 3:00 p.m. to 5:00 p.m.

Dance (review of applications): This meeting will be closed.

Date and time: November 7, 2022; 12:00 p.m. to 2:00 p.m.

Media Arts (review of applications): This meeting will be closed.

Date and time: November 7, 2022; 12:00 p.m. to 2:00 p.m.

Media Arts (review of applications): This meeting will be closed.

Date and time: November 7, 2022; 3:00 p.m. to 5:00 p.m.

Music (review of applications): This meeting will be closed.

Date and time: November 8, 2022; 12:00 p.m. to 2:00 p.m.

Music (review of applications): This meeting will be closed.

Date and time: November 8, 2022; 3:00 p.m. to 4:00 p.m.

Opera (review of applications): This meeting will be closed.

Date and time: November 9, 2021; 12:00 p.m. to 2:00 p.m.

Opera (review of applications): This meeting will be closed.

Date and time: November 9, 2022; 3:00 p.m. to 5:00 p.m.

Media Arts (review of applications): This meeting will be closed.

Date and time: November 9, 2022; 11:30 a.m. to 1:30 p.m.

Media Arts (review of applications): This meeting will be closed.

Date and time: November 9, 2022; 2:30 p.m. to 4:30 p.m.

Arts Education (review of applications): This meeting will be closed.

Date and time: November 10, 2022; 12:00 p.m. to 2:00 p.m.

Music (review of applications): This meeting will be closed.

Date and time: November 10, 2022; 12:00 p.m. to 2:00 p.m.

Music (review of applications): This meeting will be closed.

Date and time: November 19, 2022; 3:00 p.m. to 4:00 p.m.

Music (review of applications): This meeting will be closed.

Date and time: November 14, 2022; 1200 p.m. to 2:00 p.m.

Media Arts (review of applications): This meeting will be closed.

Date and time: November 14, 2022; 12:00 p.m. to 2:00 p.m.

Media Arts (review of applications): This meeting will be closed.

Date and time: November 14, 2022; 3:00 p.m. to 5:00 p.m.

Musical Theater (review of applications): This meeting will be closed.

Date and time: November 15, 2022; 12:00 p.m. to 2:00 p.m.

Theater (review of applications): This meeting will be closed.

Date and time: November 15, 2022; 3:00 p.m. to 5:00 p.m.

Visual Arts (review of applications): This meeting will be closed.

Date and time: November 15, 2022; 12:00 p.m. to 2:00 p.m.

Visual Arts (review of applications): This meeting will be closed.

Date and time: November 15, 2022; 3:00 p.m. to 5:00 p.m.

Literary Arts (review of applications): This meeting will be closed.

Date and time: November 16, 2022; 1:00 p.m. to 3:00 p.m.

Visual Arts (review of applications): This meeting will be closed.

Date and time: November 16, 2022; 12:30 p.m. to 2:30 p.m.

Visual Arts (review of applications): This meeting will be closed.

Date and time: November 16, 2022; 3:30 p.m. to 5:30 p.m.

Music (review of applications): This meeting will be closed.

Date and time: November 16, 2022; 2:00 p.m. to 4:00 p.m.

Arts Education (review of applications): This meeting will be closed.

Date and time: November 17, 2022; 2:30 p.m. to 4:30 p.m.

Literary Arts (review of applications): This meeting will be closed.

Date and time: November 17, 2022; 1:00 p.m. to 3:00 p.m.

Theater (review of applications): This meeting will be closed.

Date and time: November 17, 2022; 1:00 p.m. to 3:00 p.m.

Theater (review of applications): This meeting will be closed.

Date and time: November 17, 2022; 4:00 p.m. to 5:00 p.m.

Media Arts (review of applications): This meeting will be closed.

Date and time: November 17, 2022; 2:30 p.m. to 4:30 p.m.

Literary Arts (review of applications): This meeting will be closed.

Date and time: November 18, 2022; 1:30 p.m. to 3:30 p.m.

Theater (review of applications): This meeting will be closed.

Date and time: November 22, 2022; 1:00 p.m. to 3:00 p.m.

Theater (review of applications): This meeting will be closed.

Date and time: November 22, 2022; 4:00 p.m. to 6:00 p.m.

Our Town (review of applications): This meeting will be closed.

Date and time: November 30, 2022; 12:00 p.m. to 2:00 p.m.

Our Town (review of applications): This meeting will be closed.

Date and time: November 30, 2022; 3:00 p.m. to 5:00 p.m.

Dated: October 17, 2022.
Daniel Beattie,
Director, National Endowment for the Arts.

[FR Doc. 2022-22825 Filed 10-20-22; 8:45 am]

BILLING CODE 7537-01-P